DEPARTMENT OF STATE

22 CFR Part 89

[Public Notice 4556]

RIN 1400-AA34

Foreign Prohibitions on Longshore Work by U.S. Nationals

AGENCY: Department of State.

ACTION: Final rule.

SUMMARY: In accordance with the Immigration and Nationality Act of 1952, as amended, the Department of State is updating the list of countries in which performance of one or more specified activities of longshore work by crewmembers aboard United States vessels is prohibited by law, regulation, or in practice in the country.

EFFECTIVE DATE: This rule is effective January 14, 2004.

FOR FURTHER INFORMATION CONTACT: Stephen M. Miller, Office of Transportation Policy (EB/TRA/OTP/MA), Room 5828, Department of State, Washington DC 20851-5816, who may be reached at (202) 647-9992.

SUPPLEMENTARY INFORMATION: Section 258 of the Immigration and Nationality Act of 1952 (the “Act”), 8 U.S.C. 1288, as added by the Immigration Act of 1990, Pub. L. No. 101-649, and subsequently amended, has the effect that alien crewmen may not perform longshore work in the United States. Longshore work is defined to include “any activity relating to the loading or unloading of cargo, the operation of cargo-related equipment (whether or not integral to the vessel), and the handling of mooring lines on the dock when the vessel is made fast or let go, in the United States or the coastal waters thereof.” The Act goes on, however, to define a number of exceptions to the general prohibition on such work.

Among certain other exceptions, section 258(e), entitled the “Reciprocity exception,” allows the performance of activities constituting longshore work by alien crewmen aboard vessels flagged and owned in countries where such activities are permitted by crews aboard U.S. ships. The Secretary of State (hereinafter, “the Secretary”) is directed to compile and annually maintain a list, of longshore work by particular activity, of countries where performance of such a particular activity by crewmembers aboard United States vessels is prohibited by law, regulation, or in practice in the country. The Attorney General will use the list to determine whether to permit an alien crewmember to perform an activity constituting longshore work in the United States or its coastal waters, in accordance with the conditions set forth in the Act.

The Department bases the list on reports from U.S. diplomatic posts abroad and submissions from interested parties in response to the notice-and-comment process. On the basis of this information, the Department is hereby issuing an amended list. The list includes 24 countries not previously listed: Albania, Antigua, Barbados, Brunei, Chile, Cook Islands, Grenada, Kazakhstan, Latvia, Lebanon, Macau, Namibia, Nigeria, Oman, Russia, St. Christopher and Nevis, Singapore, Sudan, Syria, Tonga, Turkey, Tuvalu, United Arab Emirates and Vietnam. Two countries were dropped from the list because the most recent information indicates that they do not restrict longshore activities by crewmembers of U.S. vessels: Estonia and Micronesia.

On February 12, 2002, the Department published for comments a Notice of Proposed Rulemaking (67 FR 6447) updating the list of countries ineligible for the reciprocity exception. The comment period closed on March 12, 2002. In response, the Department received one comment from the Lake Carriers' Association (“Association”). Writing as the representative of 12 U.S. corporations operating 58 U.S.-flag vessels on the Great Lakes, the Association confirmed that the crews of its members' vessels do perform certain longshore activities in Canadian ports, including operation of self-unloading equipment, line handling, opening and closing of cargo hold hatches, and shifting the vessel under the loading rigs. The Association believes that it is proper for the Department to continue granting Canada a reciprocity exception and to allow crewmembers on Canadian-flag vessels to perform those duties in U.S. Great Lakes ports.

Regulatory Findings

Administrative Procedure Act

The Department is publishing this rule as a final rule after it was published as a proposed rule on February 12, 2002 in public notice 3843 (see SUPPLEMENTARY INFORMATION).

Regulatory Flexibility Act

The Department of State, in accordance with the Regulatory Flexibility Act (5 U.S.C. 605(b)), has reviewed this regulation and, by approving it, certifies that this rule will not have a significant economic impact on a substantial number of small entities.

Unfunded Mandates Act of 1995

This rule will not result in the expenditure by State, local, and tribal governments, in the aggregate, or by the private sector, of $100 million or more in any one year and it will not significantly or uniquely affect small governments. Therefore, no actions were deemed necessary under the provisions of the Unfunded Mandates Reform Act of 1995 (2 U.S.C. 1531-1538).

Small Business Regulatory Enforcement Fairness Act of 1996

This rule is not a major rule as defined by the Small Business Regulatory Enforcement Fairness Act of 1996 (5 U.S.C. 804(2)). This rule will not result in an annual effect on the economy of $100 million or more; a major increase in costs or prices; or significant adverse effects on competition, employment, investment, productivity, innovation, or on the ability of United States-based companies to compete with foreign based companies in domestic and import markets.

Executive Order 12866

The Department of State does not consider this rule to be a “significant regulatory action” under section 3(f) of Executive Order 12866, Regulatory Planning and Review. In addition, the Department is exempt from Executive Order 12866 except to the extent that it is promulgating regulations in conjunction with a domestic agency and they are significant regulatory actions. The Department has nevertheless reviewed the regulation to ensure its consistency with the regulatory philosophy and principles set forth in that Executive Order.

Executive Order 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or record-keeping requirements subject to the Paperwork Reduction Act, 44 U.S.C. Chapter 35.

List of Subjects in 22 CFR Part 89

Aliens, Crewmembers, Immigration, Labor, Longshore work.

For the reasons set out in the preamble, 22 CFR chapter I is amended as follows:

PART 89—PROHIBITIONS ON LONGSHORE WORK BY U.S. NATIONALS

1. The authority for part 89 continues to read as follows:

Authority: 8 U.S.C. 1288, Public Law 101-649, Stat.4878.

2. Part 89 is amended by revising § 89.1 to read as follows:

§ 89.1 Prohibitions on Longshore work by U.S. nationals; listing by country.

The Secretary of State has determined that, in the following countries, longshore work by crewmembers aboard United States vessels is prohibited by law, regulation, or in practice, with respect to the particular activities noted:

Albania

(a) Cargo loading and discharge.

(b) Exceptions:

(1) Operation of cargo related equipment,

(2) Opening and closing of hatches, and

(3) Rigging of ship's gear.

Algeria

(a) All longshore activities.

(b) Exception: Opening and closing of hatches.

Angola

(a) All longshore activities.

(b) Exceptions:

(1) Opening and closing of hatches,

(2) Rigging of ship's gear, and

(3) Loading and discharge of cargo on board the ship if local labor is paid as if had done the work.

Antigua

(a) All longshore activities.

(b) Exceptions: activities on board ship.

Argentina

(a) All longshore activities.

(b) Exceptions: activities on board ship.

Australia (including Norfolk and Christmas Islands)

(a) All longshore activities.

(b) Exceptions:

(1) When shore labor cannot be obtained at rates prescribed by collective bargaining agreements,

(2) Operation of cargo-related equipment and opening and closing of hatches in small ports where there is insufficient shore labor, and

(3) Rigging of ship's gear.

Bahamas

(a) Longshore activities on the pier.

Bangladesh

(a) All longshore activities.

(b) Exceptions:

(1) Operation of cargo related equipment integral to the vessel when there is a shortage of port workers able to operate the equipment and with the permission of the port authority, and

(2) Opening and closing of hatches.

Barbados

(a) All longshore activities.

(b) Exceptions:

(1) Operation of cargo related equipment,

(2) Opening and closing of hatches,

(3) Rigging of ship's gear, and

(4) Loading and discharge of cargo of less than 10 tons.

Belgium

(a) All longshore activities.

(b) Exception: Rigging of ship's gear.

Belize

(a) All longshore activities.

(b) Exceptions:

(1) Operation of cargo related equipment,

(2) Opening and closing of hatches, and

(3) Rigging of ship's gear.

Benin

(a) All longshore activities.

(b) Exceptions:

(1) Opening and closing of hatches, and

(2) Rigging of ship's gear.

Bermuda

(a) All longshore activities.

(b) Exceptions:

(1) Opening and closing of hatches, and

(2) Rigging of ship's gear.

Brazil

(a) Cargo handling,

(b) Operation of cargo-related equipment,

(c) Watchmen,

(d) Handling of mooring lines on the pier, and

(e) Other longshore activities on the pier.

(f) Exceptions:

(1) Opening and closing of hatches, and

(2) Rigging of ship's gear.

Brunei

(a) All longshore activities.

(b) Exceptions: Longshore activities on board ship.

Bulgaria

(a) All longshore activities.

(b) Exceptions:

(1) Opening and closing of hatches,

(2) Mooring and line handling on board ship, and

(3) Loading and discharge of supplies for the crew's own needs, spare parts for small repairs and other non-commercial longshore activities.

Burma

(a) All longshore activities.

(b) Exceptions:

(1) Opening and closing of hatches, and

(2) Rigging of ship's gear.

Cameroon

(a) All longshore activities.

(b) Exceptions:

(1) Opening and closing of hatches, and

(2) Rigging of ship's gear.

Canada

(a) All longshore activities.

(b) Exceptions:

(1) Operation of specialized self-loading/unloading log carriers on the Pacific Coast,

(2) Operation of self-loading/unloading equipment and line handling by the crews of bulk vessels calling at private terminals,

(3) Opening and closing of hatches,

(4) Cleaning of holds and tanks,

(5) Loading of ship's stores,

(6) Operation of onboard rented equipment,

(7) Ballasting and deballasting, and

(8) Rigging of ship's gear.

(c) Exceptions in connection with bulk cargo at Great Lakes ports only:

(1) Handling of mooring lines on the pier when the vessel is made fast or let go,

(2) Moving the vessel to place it under shoreside loading and unloading equipment,

(3) Moving the vessel in position to unload the vessel onto specific cargo piles, hoppers or conveyor belt systems, and

(4) Operation of cargo related equipment integral to the vessel.

Cape Verde

(a) All longshore activities.

Chile

(a) Longshore activities on shore.

(b) Transfer of cargo to or from ship.

China

(a) Longshore activities on shore.

Colombia

(a) All longshore activities.

(b) Exceptions: When local workers are unable or unavailable to provide longshore services.

Comoros

(a) All longshore activities.

(b) Exceptions:

(1) Operation of cargo related equipment, and

(2) Opening and closing of hatches.

Congo, Democratic Republic of

(a) All longshore activities.

(b) Exception: Operation of cargo-related equipment, when authorized by the Port Authority.

Cook Islands

(a) Longshore activities.

(b) Exceptions:

(1) Operation of cargo related equipment,

(2) Opening and closing of hatches, and

(3) Rigging of ship's gear.

Costa Rica

(a) All longshore activities.

(b) Exceptions:

(1) Operation of cargo related equipment,

(2) Opening and closing of hatches and

(3) Rigging of ship's gear.

Cote d'Ivoire

(a) All longshore activities.

Croatia

(a) All longshore activities.

Cyprus

(a) All longshore activities.

(b) Exceptions:

(1) Opening and closing of hatches, and

(2) Rigging of ship's gear.

Djibouti

(a) All longshore activities.

(b) Exceptions:

(1) Opening and closing of hatches, and

(2) Rigging of ship's gear.

Dominica

(a) All longshore activities.

(b) Exceptions:

(1) Operation of cargo related equipment,

(2) Opening and closing of hatches, and

(3) Rigging of ship's gear.

Dominican Republic

(a) Local longshore workers get paid if crewmembers operate loading and unloading equipment.

Ecuador

(a) All longshore activities.

(b) Exceptions:

(1) Operation of cargo related equipment,

(2) Opening and closing of hatches, and

(3) Rigging of ship's gear,

Egypt

(a) All longshore activities.

(b) Exceptions:

(1) Operation of cargo related equipment integral to the ship except to load and discharge cargo,

(2) Opening and closing of hatches,

(3) Rigging of ship's gear, and

(4) Handling of mooring lines on the ship.

El Salvador

(a) All longshore activities.

(b) Exceptions:

(1) Operation of cargo related equipment belonging to the vessel,

(2) Opening and closing of hatches,

(3) Rigging of ship's gear, and

(4) Special operations requiring special expertise, provided that local port workers are paid.

Eritrea

(a) All longshore activities.

(b) Exceptions:

(1) Operation of cargo-related equipment,

(2) Opening and closing of hatches,

(3) Rigging of ship's gear, and

(4) Longshore activities for LASH vessels.

Fiji

(a) All longshore activities.

(b) Exceptions:

(1) Operation of cargo related equipment,

(2) Opening and closing of hatches,

(3) Rigging of ship's gear, and

(4) Operation of computerized off-loading equipment when local expertise is not available.

Finland

(a) All longshore activities.

(b) Exceptions:

(1) Opening and closing of hatches, and

(2) Rigging of ship's gear.

France (including the French Antilles, French Guiana, French Polynesia, Mayotte, New Caledonia, Reunion, St. Pierre and Miquelon and Wallis and Fortuna)

(a) All longshore activities.

(b) Exceptions:

(1) Loading and discharge of the ship's own material and provisions if done by the ship's own equipment or by the owner of the merchandise using his own personnel,

(2) Opening and closing of hatches,

(3) Rigging of ship's gear,

(4) Operation of cargo-related equipment to shift cargo internally,

(5) Handling operations connected with shipbuilding and refitting, and

(6) Offloading fish by the crew or personnel for the shipowner.

Gabon

(a) All longshore activities.

(b) Exception: All longshore activities if local workers are paid as if they had done the work.

Gambia

(a) All longshore activities.

(b) Exceptions:

(1) Operation of cargo related equipment,

(2) Opening and closing of hatches, and

(3) Rigging of ship's gear,

Georgia

(a) All longshore activities.

(b) Exception: All longshore activities if local workers are paid as if they had done the work.

Germany

(a) All longshore activities.

(b) Exceptions:

(1) Opening and closing of hatches, and

(2) Rigging of ship's gear.

Ghana

(a) All longshore activities.

(b) Exceptions:

(1) Operation of cargo related equipment,

(2) Opening and closing of hatches, and

(3) Rigging of ship's gear.

Greece

(a) Operation of shore-based equipment to load/unload a vessel.

Grenada

(a) All longshore activities.

(b) Exceptions:

(1) Operation of cargo related equipment,

(2) Opening and closing of hatches, and

(3) Rigging of ship's gear.

Guatemala

(a) All longshore activities.

(1) Operation of cargo related equipment,

(2) Opening and closing of hatches, and

(3) Rigging of ship's gear.

Guinea

(a) All longshore activities.

(b) Exceptions:

(1) Operation of cargo related equipment aboard ship,

(2) Opening and closing of hatches,

(3) Rigging of ship's gear, and

(4) Other activities with the prior approval of the port authority.

Guyana

(a) All longshore activities.

(b) Exceptions:

(1) Operation of cargo related equipment aboard ship except to load or discharge cargo,

(2) Opening and closing of hatches, and

(3) Rigging of ship's gear.

Haiti

(a) All longshore activities.

(b) Exceptions:

(1) Opening and closing of hatches, and

(2) Rigging of ship's gear.

Honduras

(a) All longshore activities.

(b) Exceptions:

(1) Operation of cargo related equipment,

(2) Opening and closing of hatches, and

(3) Rigging of ship's gear.

Hong Kong

(a) Operation of equipment on the pier.

Iceland

(a) All longshore activities.

(b) Exceptions:

(1) Opening and closing of hatches,

(2) Rigging of ship's gear, and

(3) Longshore activities in smaller harbors where there are no local port workers.

India

(a) All longshore activities.

(b) Exception: Operation of shipboard equipment that local port workers cannot operate.

Indonesia

(a) All longshore activities.

(b) Exceptions:

(1) With the permission of the port administrator, when no local port workers with requisite skills are available, and

(2) In the event of an emergency.

Ireland

(a) All longshore activities on pier or on land at port.

Israel

(a) All longshore activities.

(b) Exceptions, other than for loading or discharging cargoes to and from the pier:

(1) Operation of cargo-related equipment,

(2) Opening and closing of hatches, and

(3) Rigging of ship's gear.

Italy

(a) All longshore activities.

(b) Exceptions: Cargo loading, discharge, and transfer upon presentation of the following information:

(1) Documentation listing the vessel's mechanical apparatus for cargo handling,

(2) A list of crewmembers who will perform the longshore activities,

(3) An insurance policy guaranteeing recovery for damages to persons or property in relation to the longshore activities.

Jamaica

(a) All longshore activities.

(b) Exceptions:

(1) Opening and closing of unusual hatches,

(2) Rigging of unusual ship's gear, and

(3) Longshore activities on foreign government vessels or ships engaged on a community development or humanitarian project.

Japan

(a) All longshore activities.

Jordan

(a) All longshore activities.

Kazakhstan

(a) All longshore activities.

Kenya

(a) All longshore activities.

(b) Exceptions:

(1) Opening and closing of hatches,

(2) Rigging of ship's gear,

(3) In an emergency declared by the port authority, and

(4) Direct transfer of cargo from one ship to another.

Korea

(a) All longshore activities.

(b) Exceptions, when done in relation to ship safety, ship operation, or supervisory work to ensure that stevedoring is done correctly:

(1) Operation of cargo related equipment,

(2) Opening and closing of hatches, and

(3) Rigging of ship's gear.

Kuwait

(a) Longshore activities on shore.

Latvia

(a) All longshore activities.

(b) Exceptions: activities on board the vessel.

Lebanon

(a) Longshore activities on shore.

Liberia

(a) Longshore activities on shore.

Lithuania

(a) All longshore activities.

Macau

(a) Longshore activities on the pier.

Madagascar

(a) All longshore activities.

(b) Exceptions:

(1) Opening and closing of hatches, and

(2) Rigging of ship's gear.

Malaysia

(a) All longshore activities.

(b) Exceptions:

(1) Operation of cargo related equipment,

(2) Opening and closing of hatches,

(3) Rigging of ship's gear, and

(4) Loading and discharge of hazardous materials.

Maldive Islands

(a) All longshore activities on shore.

Malta

(a) All longshore activities.

(b) Exceptions:

(1) Opening and closing of hatches, and

(2) Rigging of ship's gear.

Mauritania

(a) Loading and discharge of cargo.

(b) Exceptions:

(1) Operation of cargo-related equipment,

(2) Opening and closing of hatches, and

(3) Rigging of ship's gear.

Mauritius

(a) All longshore activities.

(b) Exceptions, other than for normal cargo handling activities:

(1) Operation of cargo-related equipment,

(2) Opening and closing of hatches, and

(3) Rigging of ship's gear.

Mexico

(a) All longshore activities.

(b) Exception: Preparation of cargo handling equipment to be operated by local port workers.

Morocco

(a) Loading and discharge of merchandise,

(b) Rigging of ship from dockside, and

(c) Other longshore activities not onboard vessel.

(d) Exceptions:

(1) Operation of onboard cargo related equipment, and

(2) Rigging of ship's gear onboard the ship, in coordination with local port workers.

Mozambique

(a) Loading and discharge of cargo.

(b) Exceptions:

(1) Operation of cargo-related equipment,

(2) Opening and closing of hatches, and

(3) Rigging of ship's gear.

Namibia

(a) Longshore activities on shore.

(b) Exceptions:

(1) Operation of cargo-related equipment,

(2) Opening and closing of hatches, and

(3) Rigging of ship's gear.

Nauru

(a) All longshore activities.

(b) Exceptions, with the authorization of the Harbor Master,

(1) Operation of cargo-related equipment,

(2) Opening and closing of hatches, and

(3) Rigging of ship's gear.

Netherlands

(a) All longshore activities.

(b) Exception: Regular crew activities on board ship, including operation of cargo-related equipment, opening and closing of hatches, and rigging of ship's gear.

Netherlands Antilles

(a) All longshore activities.

(b) Exceptions:

(1) Operation of ship's gear,

(2) Opening and closing of hatches, and

(3) Rigging of ship's gear.

New Zealand

(a) All longshore activities that take longer than 28 days of arriving in territorial waters.

Nicaragua

(a) All longshore activities.

(b) Exception: Opening and closing of hatches and rigging of ship's gear if local workers are paid as if they had done the work.

Nigeria

(a) All longshore activities.

(b) Exceptions:

(1) Operation of ship's gear,

(2) Opening and closing of hatches,

(3) Rigging of ship's gear, and

(4) Instructing local employees on equipment.

Oman

(a) All longshore activities.

(b) Exceptions:

(1) Assisting in the operation of cargo related equipment if required,

(2) Opening and closing of hatches, and

(3) Rigging of ship's gear.

Pakistan

(a) Longshore activities on shore, and

(b) Handling of mooring lines.

(c) Exception: Operation of equipment which pier workers are not capable of operating.

Panama

(a) All longshore activities.

(b) Exceptions:

(1) Operation of cargo related equipment,

(2) Opening and closing of hatches, and

(3) Rigging of ship's gear.

Papua New Guinea

(a) All longshore activities.

(b) Exceptions:

(1) Opening and closing of hatches, and

(2) Rigging of ship's gear.

Peru

(a) All longshore activities.

(b) Exceptions:

(1) Operation of sophisticated cargo-related equipment on container vessels,

(2) First opening and last closing of hatches and holds, and

(3) Cleaning of holds.

Philippines

(a) All longshore activities.

(b) Exceptions:

(1) Opening and closing of hatches, if not related to cargo handling,

(2) Rigging of ship's gear, if not related to cargo handling,

(3) Longshore activities for hazardous or polluting cargoes, and

(4) Longshore activities on government vessels.

Poland

(a) All longshore activities.

(b) Exceptions:

(1) Operation of cargo-related equipment,

(2) Opening and closing of hatches, and

(3) Rigging of ship's gear.

Portugal (including Azores and Madeira)

(a) All longshore activities.

(b) Exceptions:

(1) Military operations,

(2) Operations in an emergency, when under the supervision of the maritime authorities,

(3) Security or inspection operations,

(4) Loading and discharge of supplies for the vessel and its crew,

(5) Loading and discharge of fuel and petroleum products at special terminals,

(6) Loading and discharge of chemical products if required for safety reasons,

(7) Placing of trailers and similar material in parking areas when done before loading or after discharge,

(8) Cleaning of the vessel,

(9) Loading, discharge, and disposal of merchandise in other boats, and

(10) Opening and closing hatches.

Qatar

(a) All longshore activities.

Romania

(a) All longshore activities.

(b) Exceptions:

(1) Operation of specialized shipboard equipment, and

(2) Loading and discharge of cargo requiring special operations.

Russia

(a) All longshore activities performed with local port equipment.

(b) Exceptions:

(1) Operation of cargo related equipment,

(2) Opening and closing of hatches, and

(3) Rigging of ship's gear.

St. Christopher and Nevis

(a) All longshore activities.

(b) Exceptions:

(1) Operation of cargo related equipment,

(2) Opening and closing of hatches, and

(3) Rigging of ship's gear.

St. Lucia

(a) Loading, discharge and handling of general cargo.

(b) Exceptions: activities on board the ship.

St. Vincent and the Grenadines

(a) All longshore activities.

(b) Exceptions: activities on board the ship.

Saudi Arabia

(a) All longshore activities on shore.

Senegal

(a) All longshore activities.

(b) Exceptions:

(1) Opening and closing of hatches,

(2) Rigging of ship's gear, and

(3) Cargo handling when necessary to ensure the safety or stability of the vessel.

Seychelles

(a) All longshore activities.

(b) Exceptions:

(1) Opening and closing of hatches, and

(2) Rigging of ship's gear.

Sierra Leone

(a) All longshore activities.

Singapore

(a) All longshore activities.

(b) Exceptions:

(1) Operation of cargo-related equipment,

(2) Opening and closing of hatches, and

(3) Rigging of ships gear.

Slovenia

(a) All longshore activities.

(b) Exceptions:

(1) Opening and closing of hatches, and

(2) Rigging of ship's gear.

Solomon Islands

(a) All longshore activities.

(b) Exceptions:

(1) Operation of cargo related equipment,

(2) Opening and closing of hatches, and

(3) Rigging of ship's gear.

South Africa

(a) All longshore activities.

(b) Exceptions:

(1) Opening and closing of hatches, and

(2) Rigging of ship's gear.

Spain

(a) All longshore activities.

Sri Lanka

(a) Longshore activities on shore, and

(b) Operation of cargo related equipment to load and discharge cargo.

Sweden

(a) All longshore activities.

Sudan

(a) All longshore activities.

Syria

(a) All longshore activities on shore.

Taiwan

(a) All longshore activities.

(b) Exceptions:

(1) Opening and closing of hatches operated automatically, and

(2) Raising and lowering of ship's gear.

Tanzania

(a) All longshore activities.

(b) Exceptions:

(1) Operation of cargo related equipment,

(2) Opening and closing of hatches, and

(3) Rigging of ship's gear.

Thailand

(a) Longshore activities on shore.

Togo

(a) Loading and discharge of cargo.

(b) Exceptions:

(1) Operation of cargo-related equipment on board the ship,

(2) Opening and closing of hatches, and

(3) Rigging of ships gear.

Tonga

(a) All longshore activities.

(b) Exceptions:

(1) Operation of cargo-related equipment,

(2) Opening and closing of hatches, and

(3) Rigging of ship's gear.

Trinidad and Tobago

(a) All longshore activities on shore.

Tunisia

(a) All longshore activities.

(b) Exception: Operation of specialized equipment that local port workers cannot operate.

Turkey

(a) All longshore activities.

(b) Exceptions:

(1) Operation of cargo-related equipment,

(2) Opening and closing of hatches, and

(3) Rigging of ship's gear.

Tuvalu

(a) Longshore activities on shore.

United Arab Emirates

(a) All longshore activities on shore.

Uruguay

(a) All longshore activities.

(b) Exceptions:

(1) Operation of on-board cranes requiring expert operation or at the master's request,

(2) Opening and closing of hatches, and

(3) Rigging of ship's gear.

Vanuatu

(a) All longshore activities.

(b) Exceptions:

(1) Opening and closing of hatches, and

(2) Rigging of ship's gear.

Venezuela

(a) Longshore activities on shore, at the discretion of the companies leasing and operating port facilities.

Vietnam

(a) All longshore activities.

(b) Exceptions:

(1) Operation of cargo-related equipment,

(2) Opening and closing of hatches,

(3) Rigging of ship's gear, and

(4) Loading and discharge of cargo with on-board equipment when the port of call does not have the necessary equipment.

Western Samoa

(a) All longshore activities.

(b) Exceptions:

(1) Opening and closing of hatches, and

(2) Rigging of ship's gear.

Yemen

(a) Longshore activities on shore.

Dated: November 18, 2003.
E. Anthony Wayne,
Assistant Secretary, Bureau of Economic and Business Affairs, Department of State.

[FR Doc. 03-30892 Filed 12-12-03; 8:45 am]

BILLING CODE 4710-07-P